SECURITIES AND EXCHANGE COMMISSION

[File No. 500-1]

Chimera Energy Corporation; Order of Suspension of Trading

October 25, 2012.

It appears to the Securities and Exchange Commission that there is a lack of current and accurate information concerning the securities of Chimera Energy Corporation (“Chimera”) because of questions regarding the accuracy of statements by Chimera in press releases to investors concerning, among other things, the company's business prospects and agreements.

The Commission is of the opinion that the public interest and the protection of investors require a suspension of trading in the securities of Chimera.

Therefore, it is ordered, pursuant to Section 12(k) of the Securities Exchange Act of 1934, that trading in the securities of the above-listed company is suspended for the period from 9:30 a.m. EDT October 25, 2012 through 11:59 p.m. EST, on November 7, 2012.

By the Commission.
Elizabeth M. Murphy,
Secretary.

[FR Doc. 2012-26609 Filed 10-25-12; 11:15 am]

BILLING CODE 8011-01-P